FEDERAL MINE SAFETY AND HEALTH REVIEW COMMISSION

Sunshine Act Meetings

TIME AND DATE: 2 p.m., Tuesday, May 14, 2024.

PLACE: The Richard V. Backley Hearing Room, Room 511, 1331 Pennsylvania Avenue NW, Suite 504 North, Washington, DC 20004 (enter from F Street entrance).

STATUS: Open.

MATTERS TO BE CONSIDERED: The Commission will consider and act upon the following in open session: Knight Hawk Coal, LLC, Docket No. LAKE 2021-0160 (Issues include whether the Secretary of Labor has unreviewable discretion to remove a significant and substantial designation from a contested citation without the Commission's approval under section 110(k) of the Mine Act.)

Any person attending this meeting who requires special accessibility features and/or auxiliary aids, such as sign language interpreters, must inform the Commission in advance of those needs. Subject to 29 CFR 2706.150(a)(3) and 2706.160(d).

CONTACT PERSON FOR MORE INFO: Emogene Johnson (202) 434-9935/(202) 708-9300 for TDD Relay/1-800-877-8339 for toll free.

Phone Number for Listening to Meeting: 1-(866) 236-7472. Passcode: 678-100.

Authority: 5 U.S.C. 552b.

Dated: May 3, 2024.
Sarah L. Stewart,
Deputy General Counsel.

[FR Doc. 2024-10091 Filed 5-3-24; 4:15 pm]

BILLING CODE 6735-01-P